Executive Order 13995 of January 21, 2021

Ensuring an Equitable Pandemic Response and Recovery

By the authority vested in me as President by the Constitution and the laws of the United States of America, and in order to address the disproportionate and severe impact of coronavirus disease 2019 (COVID-19) on communities of color and other underserved populations, it is hereby ordered as follows:

Section 1. Purpose. The COVID-19 pandemic has exposed and exacerbated severe and pervasive health and social inequities in America. For instance, people of color experience systemic and structural racism in many facets of our society and are more likely to become sick and die from COVID-19. The lack of complete data, disaggregated by race and ethnicity, on COVID-19 infection, hospitalization, and mortality rates, as well as underlying health and social vulnerabilities, has further hampered efforts to ensure an equitable pandemic response. Other communities, often obscured in the data, are also disproportionately affected by COVID-19, including sexual and gender minority groups, those living with disabilities, and those living at the margins of our economy. Observed inequities in rural and Tribal communities, territories, and other geographically isolated communities require a place-based approach to data collection and the response. Despite increased State and local efforts to address these inequities, COVID-19's disparate impact on communities of color and other underserved populations remains unrelenting.

Addressing this devastating toll is both a moral imperative and pragmatic policy. It is impossible to change the course of the pandemic without tackling it in the hardest-hit communities. In order to identify and eliminate health and social inequities resulting in disproportionately higher rates of exposure, illness, and death, I am directing a Government-wide effort to address health equity. The Federal Government must take swift action to prevent and remedy differences in COVID-19 care and outcomes within communities of color and other underserved populations.

Sec. 2. COVID-19 Health Equity Task Force. There is established within the Department of Health and Human Services (HHS) a COVID-19 Health Equity Task Force (Task Force).

(a) Membership. The Task Force shall consist of the Secretary of HHS; an individual designated by the Secretary of HHS to Chair the Task Force (COVID-19 Health Equity Task Force Chair); the heads of such other executive departments, agencies, or offices (agencies) as the Chair may invite; and up to 20 members from sectors outside of the Federal Government appointed by the President.

(i) Federal members may designate, to perform the Task Force functions of the member, a senior-level official who is a part of the member's agency and a full-time officer or employee of the Federal Government.

(ii) Nonfederal members shall include individuals with expertise and lived experience relevant to groups suffering disproportionate rates of illness and death in the United States; individuals with expertise and lived experience relevant to equity in public health, health care, education, housing, and community-based services; and any other individuals with expertise the President deems relevant. Appointments shall be made without regard to political affiliation and shall reflect a diverse set of perspectives.

(iii) Members of the Task Force shall serve without compensation for their work on the Task Force, but members shall be allowed travel expenses, including per diem in lieu of subsistence, as authorized by law for persons serving intermittently in the Government service (5 U.S.C. 5701-5707).

(iv) At the direction of the Chair, the Task Force may establish subgroups consisting exclusively of Task Force members or their designees under this section, as appropriate.

(b) Mission and Work.

(i) Consistent with applicable law and as soon as practicable, the Task Force shall provide specific recommendations to the President, through the Coordinator of the COVID-19 Response and Counselor to the President (COVID-19 Response Coordinator), for mitigating the health inequities caused or exacerbated by the COVID-19 pandemic and for preventing such inequities in the future. The recommendations shall include:

(A) recommendations for how agencies and State, local, Tribal, and territorial officials can best allocate COVID-19 resources, in light of disproportionately high rates of COVID-19 infection, hospitalization, and mortality in certain communities and disparities in COVID-19 outcomes by race, ethnicity, and other factors, to the extent permitted by law;

(B) recommendations for agencies with responsibility for disbursing COVID-19 relief funding regarding how to disburse funds in a manner that advances equity; and

(C) recommendations for agencies regarding effective, culturally aligned communication, messaging, and outreach to communities of color and other underserved populations.

(ii) The Task Force shall submit a final report to the COVID-19 Response Coordinator addressing any ongoing health inequities faced by COVID-19 survivors that may merit a public health response, describing the factors that contributed to disparities in COVID-19 outcomes, and recommending actions to combat such disparities in future pandemic responses.

(c) Data Collection. To address the data shortfalls identified in section 1 of this order, and consistent with applicable law, the Task Force shall:

(i) collaborate with the heads of relevant agencies, consistent with the Executive Order entitled “Ensuring a Data-Driven Response to COVID-19 and Future High-Consequence Public Health Threats,” to develop recommendations for expediting data collection for communities of color and other underserved populations and identifying data sources, proxies, or indices that would enable development of short-term targets for pandemic-related actions for such communities and populations;

(ii) develop, in collaboration with the heads of relevant agencies, a set of longer-term recommendations to address these data shortfalls and other foundational data challenges, including those relating to data intersectionality, that must be tackled in order to better prepare and respond to future pandemics; and

(iii) submit the recommendations described in this subsection to the President, through the COVID-19 Response Coordinator.

(d) External Engagement. Consistent with the objectives set out in this order and with applicable law, the Task Force may seek the views of health professionals; policy experts; State, local, Tribal, and territorial health officials; faith-based leaders; businesses; health providers; community organizations; those with lived experience with homelessness, incarceration, discrimination, and other relevant issues; and other stakeholders.

(e) Administration. Insofar as the Federal Advisory Committee Act, as amended (5 U.S.C. App.), may apply to the Task Force, any functions of the President under the Act, except for those in section 6 of the Act, shall be performed by the Secretary of HHS in accordance with the guidelines that have been issued by the Administrator of General Services. HHS shall provide funding and administrative support for the Task Force to the extent permitted by law and within existing appropriations. The Chair shall convene regular meetings of the Task Force, determine its agenda, and direct its work. The Chair shall designate an Executive Director of the Task Force, who shall coordinate the work of the Task Force and head any staff assigned to the Task Force.

(f) Termination. Unless extended by the President, the Task Force shall terminate within 30 days of accomplishing the objectives set forth in this order, including the delivery of the report and recommendations specified in this section, or 2 years from the date of this order, whichever comes first.

Sec. 3. Ensuring an Equitable Pandemic Response. To address the inequities identified in section 1 of this order, it is hereby directed that:

(a) The Secretary of Agriculture, the Secretary of Labor, the Secretary of HHS, the Secretary of Housing and Urban Development, the Secretary of Education, the Administrator of the Environmental Protection Agency, and the heads of all other agencies with authorities or responsibilities relating to the pandemic response and recovery shall, as appropriate and consistent with applicable law:

(i) consult with the Task Force to strengthen equity data collection, reporting, and use related to COVID-19;

(ii) assess pandemic response plans and policies to determine whether personal protective equipment, tests, vaccines, therapeutics, and other resources have been or will be allocated equitably, including by considering:

(A) the disproportionately high rates of COVID-19 infection, hospitalization, and mortality in certain communities; and

(B) any barriers that have restricted access to preventive measures, treatment, and other health services for high-risk populations;

(iii) based on the assessments described in subsection (a)(ii) of this section, modify pandemic response plans and policies to advance equity, with consideration to:

(A) the effect of proposed policy changes on the distribution of resources to, and access to health care by, communities of color and other underserved populations;

(B) the effect of proposed policy changes on agencies' ability to collect, analyze, and report data necessary to monitor and evaluate the impact of pandemic response plans and policies on communities of color and other underserved populations; and

(C) policy priorities expressed by communities that have suffered disproportionate rates of illness and death as a result of the pandemic;

(iv) strengthen enforcement of anti-discrimination requirements pertaining to the availability of, and access to, COVID-19 care and treatment; and

(v) partner with States, localities, Tribes, and territories to explore mechanisms to provide greater assistance to individuals and families experiencing disproportionate economic or health effects from COVID-19, such as by expanding access to food, housing, child care, or income support.

(b) The Secretary of HHS shall:

(i) provide recommendations to State, local, Tribal, and territorial leaders on how to facilitate the placement of contact tracers and other workers in communities that have been hardest hit by the pandemic, recruit such workers from those communities, and connect such workers to existing health workforce training programs and other career advancement programs; and

(ii) conduct an outreach campaign to promote vaccine trust and uptake among communities of color and other underserved populations with higher levels of vaccine mistrust due to discriminatory medical treatment and research, and engage with leaders within those communities.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 21, 2021.

[FR Doc. 2021-01852

Filed 1-25-21; 11:15 am]

Billing code 3295-F1-P